DEPARTMENT OF ENERGY

Federal Energy Regulatory Commission

[Docket No. EG00-94-000, et al.]

Northwest Generation Company, et al. Electric Rate and Corporate Regulation Filings

April 5, 2000.

Take notice that the following filings have been made with the Commission:

1. Northeast Generation Company

[Docket No. EG00-94-000]

Take notice that on April 3, 2000, Northeast Generation Company, P.O. Box 270, Hartford, Connecticut, 06141, filed with the Federal Energy Regulatory Commission an amendment to its application for determination of exempt wholesale generator status pursuant to Part 365 of the Commission's regulations. The amendment provides additional information concerning the uses of lands and waters at the unlicenced hydroelectric projects that are the subject of the application.

Comment date: April 18, 2000, in accordance with Standard Paragraph E at the end of this notice. The Commission will limit its consideration of comments to those that concern the adequacy or accuracy of the application.

2. North American Power Brokers, Inc.

[Docket No. ER96-1156-006]

Take notice that on March 24, 2000, North American Power Brokers, Inc. filed quarterly reports for information only.

3. PEC Energy Marketing, Inc; DePere Energy Marketing, Inc; SkyGen Energy Marketing LLC; DePere Energy LLC

[Docket No. ER97-1431-010; Docket No. ER97-1432-010; Docket No. ER99-972-003; Docket No. ER97-4586-003]

Take notice that on March 28, 2000, the above-mentioned power marketers filed quarterly reports with the Commission in the above-mentioned proceedings for information only.

4. Total Gas & Electric, Inc. Agway Energy Services, Inc. Metro Energy Group, LLC

[Docket No. ER97-4202-010; Docket No. ER97-4186-009 Docket No. ER99-801-003]

Take notice that on March 30, 2000, the above-mentioned power marketers filed quarterly reports with the Commission in the above-mentioned proceedings for information only.

5. Ameren Services Company

[Docket No. ER00-1381-001]

Take notice that on March 30, 2000, Ameren Services Company (ASC) tendered for filing an executed Network Integration Transmission Service Agreement and an executed Network Operating Agreement, between ASC and Citizens Electric Corporation. ASC asserts that the purpose of the agreements is to permit ASC to provide service over its transmission and distribution facilities to Citizens Electric Corporation pursuant to the Ameren Open Access Tariff. The executed agreements supersede an unexecuted Network Service Agreement and an unexecuted Network Operating Agreement previously filed on January 31.

Comment date: April 20, 2000, in accordance with Standard Paragraph E at the end of this notice.

6. Sierra Pacific Power Company

[Docket No. ER00-2003-000]

Take notice that on March 30, 2000, Sierra Pacific Power Company (Sierra Pacific) tendered for filing pursuant to Section 205 of the Federal Power Act and Section 2.2 of the Settlement Agreement (the Agreement) filed on October 12, 1999, in Docket No. ER99-2339-000, a transmission loss study that indicates a change in the factor used to calculate transmission service losses under its joint open-access transmission tariff, FERC Original Volume No. 1, filed in Docket No. ER99-34-000. Sierra Pacific also submitted a similar amendment to its joint open-access transmission tariff filed on March 3, 2000, in Docket No. ER00-1801-000, in anticipation of the pending merger among Sierra Pacific, Nevada Power Company, and Portland General Electric Company.

Copies of this filing have been served upon those persons on the Commission's official service list compiled in Docket No. ER00-2339-000 and in Docket No. ER00-1801-000.

Sierra Pacific requests that its filing be made effective in Docket No. ER99-34-000 as of November 1, 1999 and in Docket No. ER00-1801-000 as of the effective date of that joint tariff.

Comment date: April 20, 2000, in accordance with Standard Paragraph E at the end of this notice.

7. Nevada Power Company

[Docket No. ER00-2004-000]

Take notice that on March 30, 2000, Nevada Power Company (Nevada Power) tendered for filing pursuant to Section 205 of the Federal Power Act and Section 2.2 of the Settlement Agreement (the Agreement) filed on February 8, 2000, in Docket No. ER99-3110-000, a transmission loss study that indicates a change in the factor used to calculate transmission service losses under its joint open-access transmission tariff, FERC Original Volume No. 1, filed in Docket No. ER99-34-000. Nevada Power also submitted a similar amendment to its joint open-access transmission tariff filed on March 3, 2000, in Docket No. ER00-1801-000, in anticipation of the pending merger among Nevada Power, Sierra Pacific Power Company, and Portland General Electric Company.

Copies of this filing have been served upon those person on the Commission's official service list compiled in Docket No. ER00-3110-000 and in Docket No. ER00-1801-000.

Nevada Power requests that its filing be made effective in Docket No. ER99-34-000 as of March 1, 2000 and in Docket No. ER00-1801-000 as of the effective date of that joint tariff.

Comment date: April 20, 2000, in accordance with Standard Paragraph E at the end of this notice.

8. Central Maine Power Company

[Docket No. ER00-2006-000]

Take notice that on March 30, 2000, Central Maine Power Company (CMP), tendered for filing as an initial rate schedule pursuant to Section 35.12 of the Federal Energy Regulatory Commission's regulations (18 CFR 35.12): (i) an unexecuted Interconnection Agreement, dated as of March 1, 2000 (the IA); (ii) an executed service agreement for Firm Local Point-to-Point Transmission Service, dated as of March 3, 2000 (the TSA); (iii) an executed service agreement for Local Network Transmission Service, dated as of March 1, 2000 (the LNSA); and (iv) an unexecuted Local Network Operating Agreement (the LNOA), dated as of March 1, 2000. The IA provides for interconnection service to S.D. Warren, Inc. (S.D. Warren) at the rates, terms, charges, and conditions set forth therein. The TSA provides for Firm Point-to-Point Transmission Service. The LNSA provides for Local Network Transmission Service. The LNOA provides for net inputs to the Facility for Station Service and any other load.

CMP is requesting that (a) the IA become effective March 1, 2000; (b) the TSA become effective March 3, 2000; (c) the LNSA become effective March 1, 2000; and (d) the LNOA become effective March 1, 2000.

Copies of this filing have been served upon the Maine Public Utilities Commission and S.D. Warren.

Comment date: April 20, 2000, in accordance with Standard Paragraph E at the end of this notice.

9. State Line Energy, L.L.C.

[Docket No. ER00-2007-000]

On March 30, 2000, State Line Energy, L.L.C. (State Line), tendered for filing a short-term service agreement for sales under State Line's Market Rate Tariff, which was accepted for filing in Document No. ER96-2869-000:

1. Amendment No. 1 to Power Purchase Agreement between Commonwealth Edison Company and State Line Energy, L.L.C.

Comment date: April 20, 2000, in accordance with Standard Paragraph E at the end of this notice.

10. Commonwealth Edison Company

[Docket No. ER00-2008-000]

Take notice that on March 30, 2000, Commonwealth Edison Company (ComEd) tendered for filing an executed Service Agreement for Network Integration Transmission Service (Service Agreement) between ComEd and Commonwealth Edison Company in its Wholesale Merchant Function (WMD). This agreement will govern ComEds provision of network service to serve the City of Dowagiac (ADowagiac) under the terms of ComEd's Open Access Transmission Tariff (OATT)

ComEd requests an effective date of March 1, 2000, and accordingly, seeks waiver of the Commission's notice requirements. Copies of this filing were served on WMD and Dowagiac.

Comment date: April 20, 2000, in accordance with Standard Paragraph E at the end of this notice.

11. Bangor Hydro-Electric Company

[Docket No. ER00-2009-000]

Take notice that on March 30, 2000, Bangor Hydro-Electric Company tendered for filing an executed service agreement for firm point-to-point transmission service with Morgan Stanley Capital Group Inc.

Comment date: April 20, 2000, in accordance with Standard Paragraph E at the end of this notice.

12. Bangor Hydro-Electric Company

[Docket No. ER00-2010-000]

Take notice that on March 30, 2000, Bangor Hydro-Electric Company tendered for filing an executed service agreement for firm point-to-point transmission service with PPL EnergyPlus Co.

Comment date: April 20, 2000, in accordance with Standard Paragraph E at the end of this notice.

13. Bangor Hydro-Electric Company

[Docket No. ER00-2011-000]

Take notice that on March 30, 2000, Bangor Hydro-Electric Company tendered for filing an executed service agreement for non-firm point-to-point transmission service with Morgan Stanley Capital Group Inc.

Comment date: April 20, 2000, in accordance with Standard Paragraph E at the end of this notice.

14. Bangor Hydro-Electric Company

[Docket No. ER00-2012-000]

Take notice that on March 30, 2000, Bangor Hydro-Electric Company tendered for filing an executed service agreement for non-firm point-to-point transmission service with PPL EnergyPlus Co.

Comment date: April 20, 2000, in accordance with Standard Paragraph E at the end of this notice.

15. American Electric Power Service Corporation

[Docket No. ER00-2013-000]

Take notice that on March 30, 2000, the American Electric Power Service Corporation (AEPSC), tendered for filing an executed Non-Firm Point-to-Point Transmission Service Agreement for Statoil Energy Services, Inc. That agreement is pursuant to the AEP Companies' Open Access Transmission Service Tariff (OATT) which has been designated as FERC Electric Tariff Original Volume No. 4, effective July 9, 1996.

AEPSC requests waiver of notice to permit the Service Agreements to be made effective for service billed on and after March 1, 2000.

A copy of the filing was served upon the Parties and the state utility regulatory commissions of Indiana, Kentucky, Michigan, Ohio, Tennessee, Virginia and West Virginia.

Comment date: April 20, 2000, in accordance with Standard Paragraph E at the end of this notice.

16. PPL Electric Utilities Corporation

[Docket No. ER00-2014-000]

Notice is hereby given that effective May 29, 2000, Rate Schedule FERC No. 156 effective on June 1, 1990 and filed with the Federal Energy Regulatory Commission by PPL Electric Utilities Corporation, formerly known as PP&L, Inc., is to be canceled.

Notice of the proposed cancellation has been served upon FirstEnergy Corp.

Comment date: April 20, 2000, in accordance with Standard Paragraph E at the end of this notice.

17. New England Power Pool

[Docket No. ER00-2016-000]

Take notice that on March 30, 2000 PG&E Generating, USGen New England, Inc., PG&E Energy Trading-Power L.P., FPL Energy, LLC, Sithe New England Holdings, LLC, Southern Energy New England, LLC, Wisvest-Connecticut, LLC, Duke Energy North America, LLC, Dighton Power Associates L.P., Tiverton Power Associates L.P., Rumford Associates L.P., Great Bay Power Corporation, NRG Power Marketing, Inc., Somerset Power, LLC, Middletown Power, LLC, Norwalk Harbor Power, LLC, Devon Power, LLC, Montville Power, LLC, Connecticut Jet Power, LLC, and Indeck-Pepperell Power Associates, Inc. (the Supporting Generators) submitted for filing, pursuant to Section 206 of the Federal Power Act, a proposal for a comprehensive congestion management system (CMS) and multi-settlement system (MSS).

The Supporting Generators state that copies of the filing have been served upon all entities listed in the above captioned docket, the Participants in the New England Power Pool, non-Participant transmission customers, and the New England State Governors and Regulatory Commissions.

Comment date: April 20, 2000, in accordance with Standard Paragraph E at the end of this notice.

18. Illinois Power Company

[Docket No. ER00-2021-000]

Take notice that on March 30, 2000, Illinois Power Company notified the Federal Energy Regulatory Commission (Commission) that, as of February 25, 2000, El Paso Merchant Energy, L.P. (EPME), as successor to Sonat Power Marketing L.P. (Sonat), provided to Illinois Power, notice of termination of the transmission service agreements which were filed with the Commission in Docket No. ER96-955-000, and pursuant to which Sonat and EPME took firm and non-firm transmission service under Illinois Power's open access transmission tariff.

Comment date: April 20, 2000, in accordance with Standard Paragraph E at the end of this notice.

19. Central Maine Power Company

[Docket No. ER00-2022-000]

Take notice that on March 30, 2000, Central Maine Power Company (CMP), tendered for filing Executed Service Agreements for Local Network Transmission Service and Local Network Operating Agreements. CMP states that these transactions are contemplated as part of the State of Maine's restructuring of the electric utility industry.

CMP requests that the Commission allow these Agreements to be deemed effective on March 1, 2000 in order to coincide with the commencement of retail access in the State of Maine.

Comment date: April 20, 2000, in accordance with Standard Paragraph E at the end of this notice.

20. Central Maine Power Company

[Docket No. ER00-2023-000]

Take notice that on March 30, 2000, Central Maine Power Company (CMP), tendered for filing Executed Service Agreements for Local Network Transmission Service and Unexecuted Local Network Operating Agreements. CMP states that these transactions are contemplated as part of the State of Maine's restructuring of the electric utility industry.

CMP requests that the Commission allow these Agreements to be deemed effective on March 1, 2000 in order to coincide with the commencement of retail access in the State of Maine. .

Comment date: April 20, 2000, in accordance with Standard Paragraph E at the end of this notice.

21. PPL Electric Utilities Corporation

[Docket No. ER00-2024-000]

Notice is hereby given that effective May 31, 1992, Rate Schedule FERC No. 99 effective on May 22, 1990 and filed with the Federal Energy Regulatory Commission by PPL Electric Utilities Corporation, formerly known as PP&L, Inc., is to be canceled.

Notice of the proposed cancellation has been served upon Atlantic City Electric Company.

Comment date: April 20, 2000, in accordance with Standard Paragraph E at the end of this notice.

22. PPL Electric Utilities Corporation

[Docket No. ER00-2025-000]

Notice is hereby given that effective May 31, 1995, Rate Schedule FERC No. 100 effective on June 1, 1990 and filed with the Federal Energy Regulatory Commission by PPL Electric Utilities Corporation, formerly known as PP&L, Inc., is to be canceled.

Notice of the proposed cancellation has been served upon Jersey Central Power & Light Company.

Comment date: April 20, 2000, in accordance with Standard Paragraph E at the end of this notice.

23. PPL Electric Utilities Corporation

[Docket No. ER00-2026-000]

Notice is hereby given that effective March 20, 1998, Rate Schedule FERC No. 85 effective on October 1, 1991 and filed with the Federal Energy Regulatory Commission by PPL Electric Utilities Corporation, formerly known as PP&L, Inc., is to be canceled.

Notice of the proposed cancellation has been served upon Atlantic City Electric Company.

Comment date: April 20, 2000, in accordance with Standard Paragraph E at the end of this notice.

24. PPL Electric Utilities Corporation

[Docket No. ER00-2027-000]

Take notice that on March 30, 2000, PPL Electric Utilities Corporation filed a Notice that effective December 31, 1999, Rate Schedule FERC No. 84 effective on April 17, 1985 and filed with the Federal Energy Regulatory Commission by PPL Electric Utilities Corporation, formerly known as PP&L, Inc., is to be canceled.

Notice of the proposed cancellation has been served upon Jersey Central Power & Light Company.

Comment date: April 20, 2000, in accordance with Standard Paragraph E at the end of this notice.

25. PPL Electric Utilities Corporation

[Docket No. ER00-2028-000]

Notice is hereby given that effective May 29, 2000, Rate Schedule FERC No. 105 effective on June 10, 1991 and filed with the Federal Energy Regulatory Commission by PPL Electric Utilities Corporation, formerly known as PP&L, Inc., is to be canceled.

Notice of the proposed cancellation has been served upon Baltimore Gas & Electric Company.

Comment date: April 20, 2000, in accordance with Standard Paragraph E at the end of this notice.

26. APS Energy Services Company, Inc.

[Docket No. ER00-2029-000]

Take notice that on March 30, 2000, APS Energy Services Company, Inc. (APSES), tendered for filing a letter from the Executive Committee of the Western Systems Power Pool (WSPP), indicating that APSES had completed all the steps for pool membership. APSES requests that the Commission amend the WSPP Agreement to include it as a member.

APSES requests an effective date of March 31, 2000 for the proposed amendment. Accordingly, APSES requests waiver of the Commission's notice requirements for good cause shown.

Copies of the filing were served upon the WSPP Executive Committee.

Comment date: April 20, 2000, in accordance with Standard Paragraph E at the end of this notice.

27. Niagara Mohawk Power Corporation

[Docket No. ER00-2037-000]

Take notice that on March 30, 2000, Niagara Mohawk Power Corporation (NMPC) tendered for filing with the Federal Energy Regulatory Commission an executed form Service Agreement between NMPC and the State University of New York at Buffalo (Purchaser). The Service Agreement specifies that the Purchaser has signed and agreed to the terms and conditions of NMPC's Power Sales Tariff designated as NMPC's FERC Electric Tariff, Original Volume No. 2. This Tariff, approved by FERC on April 15, 1994, and having an effective date of March 13, 1993, allows NMPC and the Purchaser to enter into separately scheduled transactions under which NMPC will sell to the Purchaser capacity and/or energy as the parties may mutually agree.

In its filing letter, NMPC also included a Certificate of Concurrence from the Purchaser.

NMPC is requesting an effective date of November 1, 1999 for the agreement.

NMPC has served copies of the filing upon the New York State Public Service Commission and the companies included in a Service List enclosed with the filing.

Comment date: April 20, 2000, in accordance with Standard Paragraph E at the end of this notice.

28. Niagara Mohawk Power Corporation

[Docket No. ER00-2038-000]

Take notice that on March 30, 2000, Niagara Mohawk Power Corporation (NMPC) tendered for filing with the Federal Energy Regulatory Commission an executed form Service Agreement between NMPC and Amherst Utility Cooperative (Purchaser). The Service Agreement specifies that the Purchaser has signed and agreed to the terms and conditions of NMPC's Power Sales Tariff designated as NMPC's FERC Electric Tariff, Original Volume No. 2. This Tariff, approved by FERC on April 15, 1994, and having an effective date of March 13, 1993, allows NMPC and the Purchaser to enter into separately scheduled transactions under which NMPC will sell to the Purchaser capacity and/or energy as the parties may mutually agree.

In its filing letter, NMPC also included a Certificate of Concurrence from the Purchaser.

NMPC is requesting an effective date of November 1, 1999 for the agreement.

NMPC has served copies of the filing upon the New York State Public Service Commission and the companies included in a Service List enclosed with the filing.

Comment date: April 20, 2000, in accordance with Standard Paragraph E at the end of this notice.

29. Illinois Power Company

[Docket No. ER00-2039-000]

Take notice that, on March 30, 2000, Illinois Power Company (Illinois Power), 500 South 27th Street, Decatur, Illinois 62521, tendered for filing an unexecuted Service Agreement for Network Integration Transmission Service and an unexecuted Network Operating Agreement under which Tri-County Electric Cooperative, Inc. will take transmission service pursuant to Illinois Power's open access transmission tariff (OATT). The agreements are based on forms of agreements in Illinois Power's OATT.

Illinois Power has requested an effective date of March 1, 2000.

Comment date: April 20, 2000, in accordance with Standard Paragraph E at the end of this notice.

30. Illinois Power Company

[Docket No. ER00-2040-000]

Take notice that, on March 30, 2000, Illinois Power Company (Illinois Power), 500 South 27th Street, Decatur, Illinois 62521, tendered for filing firm and non-firm transmission service agreements under which Allegheny Energy Supply Company, LLC, will take transmission service pursuant to Illinois Power's open access transmission tariff. The agreements are based on the forms of Service Agreement in Illinois Power's tariff.

Illinois Power has requested an effective date of March 24, 2000.

Comment date: April 20, 2000, in accordance with Standard Paragraph E at the end of this notice.

31. Illinois Power Company

[Docket No. ER00-2041-000]

Take notice that on March 30, 2000, Illinois Power Company (Illinois Power), 500 South 27th Street, Decatur, Illinois 62521, tendered for filing a non-firm transmission service agreement under which The Energy Authority, Inc. will take transmission service pursuant to Illinois Power's open access transmission tariff. The agreement is based on a form of Service Agreement in Illinois Power's tariff.

Illinois Power has requested an effective date of March 24, 2000.

Comment date: April 20, 2000, in accordance with Standard Paragraph E at the end of this notice.

32. Illinois Power Company

[Docket No. ER00-2042-000]

Take notice that, on March 30, 2000, Illinois Power Company (Illinois Power), 500 South 27th Street, Decatur, Illinois 62521, tendered for filing an unexecuted Service Agreement for Network Integration Transmission Service and an unexecuted Network Operating Agreement under which Clinton County Electric Cooperative, Inc. will take transmission service pursuant to Illinois Power's open access transmission tariff (OATT). The agreements are based on forms of agreements in Illinois Power's OATT.

Illinois Power has requested an effective date of March 1, 2000.

Comment date: April 20, 2000, in accordance with Standard Paragraph E at the end of this notice.

33. Southern California Edison Company

[Docket No. ER00-2043-000]

Take notice that on March 30, 2000, Southern California Edison Company (SCE) tendered for filing Amendment No. 6 to the Power Contract between SCE and the State Of California Department Of Water Resources. Amendment No. 6 amends the calculation of SCE's return obligation to reflect divestiture of its Oil and Gas generating stations.

Copies of this filing were served upon the Public Utilities Commission of the State of California and all interested parties.

Comment date: April 20, 2000, in accordance with Standard Paragraph E at the end of this notice.

34. Black River Power LLC

[Docket No. ER00-2044-000]

Take notice that on March 30, 2000, Black River Power LLC (Black River) tendered for filing a Power Purchase and Sale Agreement with Niagara Mohawk Energy Marketing, Inc. (Niagara) under Black River's market-based sales tariff.

Black River requests that the agreement be made effective on March 1, 2000.

A copy of the filing has been served on Niagara.

Comment date: April 20, 2000, in accordance with Standard Paragraph E at the end of this notice.

35. Virginia Electric and Power Company

[Docket No. ER00-2045-000]

Take notice that on March 30, 2000, Virginia Electric and Power Company (Virginia Power) tendered for filing a Termination Notice of the Service Agreement between Virginia Electric and Power Company and Illinova Power Marketing, Inc. (IPMI), formerly Illinois Power Company, dated March 3, 1997 and approved by the FERC in a letter order on May 22, 1997 under Docket No. ER97-2394-000.

Virginia Power respectfully requests an effective date of the termination of April 30, 2000, as requested by Dynegy Power Marketing, Inc. (DYPM), successor to IPMI.

Copies of the filing were served upon Dynegy Power Marketing, Inc., the Virginia State Corporation Commission and the North Carolina Utilities Commission.

Comment date: April 20, 2000, in accordance with Standard Paragraph E at the end of this notice.

36. PECO Energy Company

[Docket No. ER00-2048-000]

Take notice that on March 29, 2000, PECO Energy Company (PECO), tendered for filing under Section 205 of the Federal Power Act, 16 U.S.C. S 792 et seq., a Service Agreement dated March 28, 2000 with Allegheny Energy Supply Company, LLC (AESC) under PECO's FERC Electric Tariff Original Volume No. 1 (Tariff).

PECO requests an effective date of March 28, 2000, for the Agreement.

PECO states that copies of this filing have been supplied to Allegheny Energy Supply Company, LLC and to the Pennsylvania Public Utility Commission.

Comment date: April 20, 2000, in accordance with Standard Paragraph E at the end of this notice.

37. Central Maine Power Company

[Docket No. ER00-2062-000]

Take notice that on March 30, 2000, Central Maine Power Company (CMP) submitted “Unexecuted Service Agreements for Local Network Transmission Service” and “Unexecuted Local Network Operating Agreements”. CMP states that these transactions are contemplated as part of the State of Maine's restructuring of the electric utility industry.

CMP requests that the Commission allow these Agreements to be deemed effective on March 1, 2000 in order to coincide with the commencement of retail access in the State of Maine. .

Comment date: April 20, 2000, in accordance with Standard Paragraph E at the end of this notice.

Standard Paragraphs

E. Any person desiring to be heard or to protest such filing should file a motion to intervene or protest with the Federal Energy Regulatory Commission, 888 First Street, NE, Washington, DC 20426, in accordance with rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-9161 Filed 4-12-00; 8:45 am]

BILLING CODE 6717-01-P